DEPARTMENT OF DEFENSE

Office of the Secretary

DOD Advisory Group on Electron Devices

AGENCY: Department of Defense.

ACTION: Notice; Closed Meeting of the DOD Advisory Group on Electron Devices.

SUMMARY: The DoD Advisory Group on Electron Devices (AGED) announces a closed session meeting.

DATES: The meeting will be held on Tuesday, May 24, 2005 at 0830.

ADDRESSES: The meeting will be held at Noesis, Inc., 4100 N. Fairfax Drive, Suite 800, Arlington, VA 22203

FOR FURTHER INFORMATION CONTACT: Ms. Vicki Schneider, Noesis, Inc., 4100 N. Fairfax Drive, Suite 800, Arlington, VA 22203, (703) 741-0300.

SUPPLEMENTARY INFORMATION: The mission of the Advisory Group is to provide advice to the Under Secretary of Defense for Acquisition, Technology and Logistics to the Director of Defense Research and Engineering (DDR&E), and through the DDR&E to the Director, Defense Advanced Research Projects Agency and the Military Departments in planning and managing an effective and economical research and development program in the area of electron devices.

The AGED meeting will be limited to review of research and development efforts in electronics and photonics with a focus on benefits to national defense. These reviews may form the basis for research and development programs initiated by the Military Departments and Defense Agencies to be conducted by industry, universities or in government laboratories. The agenda for this meeting will include programs on RF technology, microelectronics, electro-optics, and electronic materials.

In accordance with Section 10(d) of Pub. L. No. 92-463, as amended, (5 U.S.C. App. 2), it has been determined that this Advisory Group meeting concerns matters listed in 5 U.S.C. 552b(c)(1), and that accordingly, this meeting will be closed to the public.

Dated: May 17, 2005.
Jeannette Owings-Ballard,
OSD Federal Register Liaison Officer, Department of Defense.

[FR Doc. 05-9620 Filed 5-12-05; 8:45 am]

BILLING CODE 5001-06-P